OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between December 1, 2007, and December 31, 2007. Future notices will be published on the fourth Tuesday of each month, or as soon as possible thereafter. A consolidated listing of all authorities as of June 30 is published each year.

Schedule A

No Schedule A appointments were approved for December 2007.

Schedule B

No Schedule B appointments were approved for December 2007.

Schedule C

The following Schedule C appointments were approved during December 2007.

Section 213.3303 Executive Office of the President

Office of Management and Budget

BOGS80002 Confidential Assistant to the Associate Director for Natural Resource Programs. Effective December 11, 2007.

Office of National Drug Control Policy

QQGS80002 Special Assistant to the Director to the Chief of Staff. Effective December 04, 2007.

Section 213.3304 Department of State

DSGS61103 Staff Assistant to the Under Secretary for Arms Control and Security Affairs. Effective December 4, 2007.

DSGS61270 Public Affairs Specialist to the Assistant Secretary for Public Affairs. Effective December 21, 2007.

Section 213.3305 Department of the Treasury

DYGS00230 Public Affairs Specialist to the Director, Public Affairs. Effective December 27, 2007.

DYGS00501 Special Assistant to the Under Secretary for Domestic Finance. Effective December 27, 2007.

DYGS00502 Senior Policy Advisor to the Under Secretary for Domestic Finance. Effective December 27, 2007.

Section 213.3306 Department of Defense

DDGS17120 Special Assistant to the Assistant Secretary of Defense (Health Affairs). Effective December 07, 2007.

DDGS17124 Special Events Coordinator to the Assistant Secretary of Defense Public Affairs. Effective December 14, 2007.

DDGS17121 Staff Assistant to the Deputy Assistant Secretary of Defense (Middle East). Effective December 18, 2007.

DDGS17127 Special Assistant to the Deputy General Counsel Legal Counsel. Effective December 19, 2007.

Section 213.3307 Department of the Army

DWGS60086 Special Assistant to the General Counsel. Effective December 4, 2007.

Section 213.3310 Department of Justice

DJGS00069 Confidential Assistant to the Director, Office of Public Affairs. Effective December 7, 2007.

DJGS00252 Director of Advance to the Attorney General. Effective December 11, 2007.

DJGS00196 Special Assistant to the Chief of Staff. Effective December 20, 2007.

Section 213.3311 Department of Homeland Security

DMGS00729 Special Assistant to the Chief Privacy Officer. Effective December 07, 2007.

DMGS00735 Director of Special Projects and Protocol to the Assistant Secretary for Public Affairs. Effective December 27, 2007.

DMGS00736 Director of Strategic Communications to the Assistant Secretary for Public Affairs. Effective December 27, 2007.

Section 213.3313 Department of Agriculture

DAGS00928 Director of External Affairs to the Administrator, Farm Service Agency. Effective December 7, 2007.

DAGS00926 Deputy Chief of Staff to the Chief of Staff. Effective December 14, 2007.

DAGS00927 Staff Assistant to the Assistant Secretary for Congressional Relations. Effective December 27, 2007.

Section 213.3314 Department of Commerce

DCGS00603 Special Assistant to the Under Secretary for International Trade. Effective December 21, 2007.

DCGS00154 Senior Advisor to the Under Secretary of Commerce for Industry and Security. Effective December 27, 2007.

DCGS00172 Policy Advisor to the Assistant Secretary for Export Administration. Effective December 27, 2007.

DCGS00338 Press Secretary to the Director of Public Affairs. Effective December 27, 2007.

DCGS00359 Confidential Assistant to the Chief of Staff. Effective December 27, 2007.

DCGS00492 Confidential Assistant to the Director of Advance. Effective December 27, 2007.

DCGS00561 Legislative Affairs Specialist to the Deputy Under Secretary and Deputy Director of U.S. Patent and Trademark Office. Effective December 27, 2007.

DCGS60596 Confidential Assistant to the Director of Public Affairs. Effective December 27, 2007.

Section 213.3315 Department of Labor

DLGS60263 Special Assistant to the Deputy Assistant Secretary for Labor-Management Programs. Effective December 11, 2007.

Section 213.3317 Department of Education

DBGS00658 Deputy Assistant Secretary for External Affairs to the Assistant Secretary, Office of Communications and Outreach. Effective December 4, 2007.

DBGS00531 Press Secretary to the Assistant Secretary, Office of Communications and Outreach. Effective December 19, 2007.

DBGS00644 Chief of Staff for the Office of Communications and Outreach to the Assistant Secretary, Office of Communications and Outreach. Effective December 21, 2007.

DBGS00505 Deputy Secretary's Regional Representative, Region 6 to the Director, Regional Services. Effective December 27, 2007.

Section 213.3318 Environmental Protection Agency

EPGS07031 Deputy Press Secretary to the Associate Administrator for Public Affairs. Effective December 4, 2007.

Section 213.3331 Department of Energy

DEGS00626 Special Advisor to the White House Liaison. Effective December 11, 2007.

Section 213.3379 Commodity Futures Trading Commission

CTOT00058 Special Assistant to the Commissioner. Effective December 17, 2007.

Section 213.3391 Office of Personnel Management

PMGS00065 Attorney—Advisor to the General Counsel. Effective December 7, 2007.

Section 213.3393 Pension Benefit Guaranty Corporation

BGGS01213 Director, Communications and Public Affairs Department to the Deputy Executive Director, Office of Policy and External Affairs. Effective December 27, 2007.

Section 213.3394 Department of Transportation

DTGS60301 Associate Director for Governmental Affairs to the Deputy Assistant Secretary for Governmental Affairs. Effective December 4, 2007.

Authority: 5 U.S.C. 3301 and 3302; E.O. 10577, 3 CFR 1954-1958 Comp., p. 218.

U.S. Office of Personnel Management.
Howard C. Weizmann,
Deputy Director.

[FR Doc. E8-1268 Filed 1-24-08; 8:45 am]

BILLING CODE 6325-39-P